DEPARTMENT OF TRANSPORTATION

Federal Aviation Administration

14 CFR Part 39

[Docket No. FAA-2005-22810; Directorate Identifier 2005-NM-143-AD]

RIN 2120-AA64

Airworthiness Directives; Airbus Model A310-203, -204, and -222 Airplanes, and Model A310-300 Series Airplanes

AGENCY: Federal Aviation Administration (FAA), Department of Transportation (DOT).

ACTION: Notice of proposed rulemaking (NPRM).

SUMMARY: The FAA proposes to adopt a new airworthiness directive (AD) for certain Airbus Model A310-203, -204, and -222 airplanes, and Model A310-300 series airplanes. This proposed AD would require a one-time rototest inspection for cracking of the frame foot and adjacent frames and skin in the area surrounding the frame foot run-outs from fuselage frames (FR) 43 through FR 46, and repair if necessary. The proposed AD also requires modification of certain fastener holes. This proposed AD results from a structural evaluation of Model A310 airplanes for widespread fatigue damage of the frame foot run-outs from FR 43 through FR 46. The evaluation revealed that, on in-service airplanes, undetected cracking in this area can lead to the rupture of the frame foot and subsequent cracking of the adjacent frames and fuselage skin. We are proposing this AD to prevent fatigue cracking of the frame foot run-outs, which could lead to rupture of the frame foot and cracking in adjacent frames and skin, and result in reduced structural integrity of the fuselage.

DATES: We must receive comments on this proposed AD by November 28, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Dan Rodina, Aerospace Engineer, International Branch, ANM-116, Transport Airplane Directorate, FAA, 1601 Lind Avenue, SW., Renton, Washington 98055-4056; telephone (425) 227-2125; fax (425) 227-1149.

SUPPLEMENTARY INFORMATION:

Comments Invited

We invite you to submit any relevant written data, views, or arguments regarding this proposed AD. Send your comments to an address listed in the ADDRESSES section. Include the docket number “FAA-2005-22810; Directorate Identifier 2005-NM-143-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Direction Générale de l'Aviation Civile (DGAC), which is the airworthiness authority for France, notified us that an unsafe condition may exist on certain Airbus Model A310-203, -204, and -222 airplanes, and Model A310-300 series airplanes. The DGAC advises that a structural evaluation for widespread fatigue damage of the frame foot run-outs from fuselage frame (FR) 43 through FR 46 was done on the subject airplanes. The evaluation revealed that, on in-service airplanes, undetected cracking in this area can lead to the rupture of the frame foot and subsequent cracking of the adjacent frames and fuselage skin. Such cracking would require an extensive repair and could have an impact on pressure loading strength capacity of the structure. These conditions, if not corrected, could result in reduced structural integrity of the fuselage.

Relevant Service Information

Airbus has issued Service Bulletin A310-53-2124, dated April 4, 2005. The service bulletin describes procedures for performing a one-time rototest inspection to find cracking of the frame foot and adjacent frames and skin in the area surrounding the frame foot run-outs from FR 43 through FR 46, and repair of cracking within certain limits. If the cracking is outside the limits specified in the service bulletin, the service bulletin procedures recommend contacting the manufacturer for repair instructions. The service bulletin also describes procedures for modification of certain fastener holes. The modification includes cold expanding the fastener holes most susceptible to fatigue, which are located between FR 43 and FR 46 on the center box and on the upper fuselage bent sections, and installing new fasteners. Accomplishing the actions specified in the service information is intended to adequately address the unsafe condition. The DGAC mandated the service information and issued French airworthiness directive F-2005-078, dated May 11, 2005, to ensure the continued airworthiness of these airplanes in France.

Section 1.E., Compliance, of the service bulletin specifies compliance times for the actions in the service bulletin. The thresholds for the one-time inspection and modification range from between 22,200 flight cycles or 51,700 flight hours, whichever is first, to 26,800 flight cycles or 77,700 flight hours, whichever is first, depending on the configuration of the airplane. The service bulletin also includes a grace period of 3,000 flight cycles for airplanes that have exceeded certain flight-hour or flight-cycle thresholds, depending on the configuration of the airplane.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for airplanes of this type design that are certificated for operation in the United States.

Therefore, we are proposing this AD, which would require accomplishing the actions specified in the service information described previously, except as discussed under “Differences Among Proposed AD, French Airworthiness Directive, and Service Bulletin.”

Differences Among Proposed AD, French Airworthiness Directive, and Service Bulletin

The applicability of the French Airworthiness Directive excludes airplanes on which Airbus Service Bulletin A310-53-2124 has been accomplished in service. However, we have not excluded those airplanes in the applicability of this proposed AD; rather, this proposed AD would include a requirement to accomplish the actions specified in that service bulletin. This proposed AD would ensure that the actions specified in the service bulletin and required by this proposed AD are accomplished on all affected airplanes. Operators must continue to operate the airplane in the configuration required by this proposed AD unless an alternative method of compliance is approved.

The service bulletin specifies to contact the manufacturer for instructions on how to repair certain conditions, but this proposed AD would require repairing those conditions using a method that we or the DGAC (or its delegated agent) approve. In light of the type of repair that would be required to address the unsafe condition, and consistent with existing bilateral airworthiness agreements, we have determined that, for this proposed AD, a repair we or the DGAC approve would be acceptable for compliance with this proposed AD.

Costs of Compliance

This proposed AD would affect about 59 airplanes of U.S. registry. The proposed actions would take about 31 work hours per airplane, at an average labor rate of $65 per work hour. Required parts would cost about $1,730 per kit (two kits per airplane). Based on these figures, the estimated cost of the proposed AD for U.S. operators is $323,025, or $5,475 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2005-22810; Directorate Identifier 2005-NM-143-AD.

Comments Due Date

(a) The FAA must receive comments on this AD action by November 28, 2005.

Affected ADs

(b) None.

Applicability

(c) This AD applies to Airbus Model A310-203, -204, and -222 airplanes, and Model A310-304, -322, -324, and -325 airplanes; certificated in any category; except those airplanes on which Airbus Modification 13023 has been accomplished in production.

Unsafe Condition

(d) This AD results from a structural evaluation of Model A310 airplanes for widespread fatigue damage of the frame foot run-outs from frame (FR) 43 through FR 46. We are issuing this AD to prevent fatigue cracking of the frame foot run-outs, which could lead to rupture of the frame foot and cracking in adjacent frames and skin, and result in reduced structural integrity of the fuselage.

Compliance

(e) You are responsible for having the actions required by this AD performed within the compliance times specified, unless the actions have already been done.

Inspection/Repair/Modification

(f) At the later of the times specified in paragraphs (f)(1) and (f)(2) of this AD, perform a one-time rototest inspection for cracking of the frame foot and adjacent frames and skin in the area surrounding the frame foot run-outs from fuselage frame FR 43 through FR46 by doing all the applicable actions specified in the Accomplishment Instructions of the service bulletin. Except as required by paragraph (g) of this AD, repair any cracking before further flight in accordance with the Accomplishment Instructions of the service bulletin. Before further flight after performing the inspection, modify the fastener holes located between FR 43 and FR 46 on the center box and on the upper fuselage bent sections in accordance with the Accomplishment Instructions of the service bulletin.

(1) Before the accumulation of the total flight-cycle or flight-hour threshold, whichever is first, specified in the Accomplishment Timescale table in paragraph 1.E.(2), “Compliance” of the service bulletin.

(2) At the earlier of the times specified in paragraphs (f)(2)(i) and (f)(2)(ii) of this AD.

(i) Before the accumulation of the total flight-cycle or flight-hour threshold, whichever is first, specified in Notes 01, 02, and 03 in paragraph 1.E.(2), “Compliance” of the service bulletin, after the effective date of this AD.

(ii) Within 3,000 flight cycles after the effective date of this AD.

Repair Per FAA or Direction Générale de l'Aviation Civile (DGAC)

(g) For any cracking found during any inspection required by this AD for which the service bulletin specifies to contact the manufacturer for an appropriate repair: Before further flight, repair in accordance with a method approved by the Manager, International Branch, ANM-116, Transport Airplane Directorate, FAA; or the DGAC (or its delegated agent).

Alternative Methods of Compliance (AMOCs)

(h)(1) The Manager, International Branch, ANM-116, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(i) French airworthiness directive F-2005-078, dated May 11, 2005, also addresses the subject of this AD.

Issued in Renton, Washington, on October 20, 2005.
Kalene C. Yanamura,
Acting Manager, Transport Airplane Directorate, Aircraft Certification Service.

[FR Doc. 05-21428 Filed 10-26-05; 8:45 am]

BILLING CODE 4910-13-P